NATIONAL SCIENCE FOUNDATION

Agency Information Collection Activities: Comment Request

AGENCY: National Science Foundation.

ACTION: Notice; Submission for OMB Review; Comment Request.

SUMMARY: The National Science Foundation (NSF) has submitted the following information collection requirement to OMB for review and clearance under the Paperwork Reduction Act of 1995, Public Law 104-13. This is the second notice for public comment; the first was published in the Federal Register at 80 FR 30738, and no comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street NW. Room 10235, Washington, DC 20503, and to Suzanne Plimpton, Reports Clearance Officer, National Science Foundation, 4201 Wilson Boulevard, Room 1265, Arlington, VA 22230, or by email to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

Under OMB regulations, the agency may continue to conduct or sponsor the collection of information while this submission is pending at OMB.

ADDRESSES: Submit written comments to Suzanne Plimpton, Reports Clearance Officer, National Science Foundation, 4201 Wilson Boulevard, Room 1265, Arlington, VA 22230, or by email to splimpto@nsf.gov.

FOR FURTHER INFORMATION CONTACT: Call or write, Suzanne Plimpton, Reports Clearance Officer, National Science Foundation, 4201 Wilson Boulevard, Room 1265, Arlington, VA 22230, or by email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: Survey of Grantees of Science, Engineering and Research for Sustainability (SEES) Portfolio of Programs

OMB Approval Number: 3145-NEW7555-01-P

National Science Foundation Agency Information Collection Activities; Comment Request; NSF's Science, Engineering, and Education for Sustainability (SEES) Portfolio of Programs Survey; Proposed Information Collection Request.

AGENCY: National Science Foundation.

ACTION: Notice.

SUMMARY: The National Science Foundation (NSF) is announcing plans to request establishment and clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

A copy of the proposed information collection request (ICR) can be obtained by contacting the office listed below in the ADDRESSES section of this notice.

DATES: Submit comments before May 16, 2016.

ADDRESSES: Suzanne H. Plimpton, Reports Clearance Officer, National Science Foundation, 4201 Wilson Boulevard, Suite 1265, Arlington, Virginia 22230 or send email to splimpto@nsf.gov. Copies of the submission may be obtained by calling (703) 292-7556.

Instructions: Please submit one copy of your comments by only one method. All submissions received must include the agency name and collection name identified above for this information collection. Commenters are strongly encouraged to transmit their comments electronically via email. Comments, including any personal information provided become a matter of public record. They will be summarized and/or included in the request for Office of Management and Budget approval of the information collection request.

For Further Information Contact: Suzanne H. Plimpton, Reports Clearance Officer, National Science Foundation, 4201 Wilson Boulevard, Suite 1265, Arlington, Virginia 22230 or send email to splimpto@nsf.gov. Copies of the submission may be obtained by calling (703) 292-7556. Individuals who use a telecommunications device for the deaf (TDD) may call the Federal Information Relay Service (FIRS) at 1-800-877-8339 between 8 a.m. and 8 p.m., Eastern time, Monday through Friday.

SUPPLEMENTARY INFORMATION:

Title of Collection: Survey of Grantees of SEES and Comparable Non-SEES Programs

OMB Number: 3145-NEW

Type of request: Intent to seek approval for ICR

Abstract

In 2010, NSF established the SEES Portfolio as a multi-year effort to coordinate Agency research and education activities related to the environment, energy and sustainability. The overarching goals of the SEES portfolio are to 1) support interdisciplinary research and education that can facilitate the move towards global sustainability; 2) build linkages among existing projects and partners and add new participants in the sustainability research enterprise; and 3) develop a workforce trained in the interdisciplinary scholarship needed to understand and address the complex issues of sustainability.

NSF is supporting an evaluation of the SEES portfolio to determine the extent to which it has achieved its program- and portfolio-level goals. Specifically, the evaluation seeks to measure the output and outcomes of SEES in terms of the development of new knowledge and concepts that advance the overarching goal of a sustainable human future, new and productive connections made between researchers in a range of disciplines, and the development of a workforce capable of meeting sustainability challenges.

This comment request relates to a proposed survey of NSF grant recipients. The survey respondents are principal investigators (PIs) in NSF-funded SEES and comparable non-SEES projects. The survey will collect information on respondents' career pathways, NSF grant activities, and the development of interdisciplinary networks of scholars among researchers.

I. Review Focus

NSF is interested in comments on the practical utility of the survey in view of the project goals and the study approach, the burden on respondents and potential ways to minimize it.

Comments submitted in response to this Notice will be summarized and included in the request for Office of Management and Budget approval of the ICR; they will also become a matter of public record.

II. Current Actions

Affected Public: Grant recipients of NSF SEES and comparable non-SEES Programs

Total Respondents: 950

Frequency: One-time collection

Total responses: 760

Average Time per response: 45 minutes

Estimated Total Burden Hours: 576.3 hours

Dated: March 9, 2016.
Suzanne H. Plimpton,
Reports Clearance Officer, National Science Foundation.

[FR Doc. 2016-05760 Filed 3-14-16; 8:45 am]

BILLING CODE 7555-01-P